DEPARTMENT OF HEALTH AND HUMAN SERVICES

National Institutes of Health

Office of Biotechnology Activities; Recombinant DNA Research: Notice of Extension for Public Comment Period for the Consideration of a Proposed Action Under the NIH Guidelines for Research Involving Recombinant DNA Molecules (NIH Guidelines); Notice

A notice of consideration of a proposed action under the NIH Guidelines with an opportunity for public comment was published by the Department of Health and Human Services, National Institutes of Health, in the Federal Register (74 FR 9411) on March 4, 2009 for the Office of Biotechnology Activities; Recombinant DNA Research: Proposed Actions Under the NIH Guidelines for Research Involving Recombinant DNA Molecules. The public comment period ends on May 4, 2009. This notice announces an extension of the public comment period until June 1, 2009.

If you have questions, or require additional information about these proposed changes, please contact OBA by e-mail at oba@od.nih.gov, or by telephone at 301-496-9838. Comments may be submitted to the same e-mail address or submitted by fax to 301-496-9839, or sent by mail to the Office of Biotechnology Activities, National Institutes of Health, 6705 Rockledge Drive, Suite 750, MSC 7985, Bethesda, Maryland 20892-7985. Background information may be obtained by contacting NIH OBA by e-mail at oba@od.nih.gov.

Dated: April 30, 2009.
Jacqueline Corrigan-Curay,
Acting Director, Office of Biotechnology Activities, National Institutes of Health.

[FR Doc. E9-10432 Filed 5-5-09; 8:45 am]

BILLING CODE 4140-01-P